DEPARTMENT OF TRANSPORTATION

Federal Aviation Administration

14 CFR Part 39

[Docket No. FAA-2005-20452; Directorate Identifier 2004-NM-206-AD]

RIN 2120-AA64

Airworthiness Directives; Airbus Model A330 and A340-200 and -300 Series Airplanes

AGENCY: Federal Aviation Administration (FAA), Department of Transportation (DOT).

ACTION: Notice of proposed rulemaking (NPRM).

SUMMARY: The FAA proposes to adopt a new airworthiness directive (AD) for certain Airbus Model A330 and A340-200 and -300 series airplanes. This proposed AD would require repetitive detailed inspections for discrepancies of the inboard and outboard actuator fittings of the aileron servo-controls, corrective actions if necessary, and eventual replacement of all the attachment bolts of the aileron servo-controls. This proposed AD is prompted by several cases of bushing migration on the inboard and outboard actuator fittings of the aileron servo-controls; in one case the bushing had migrated completely out of the actuator fitting and the fitting was cracked. We are proposing this AD to prevent rupture of the inboard and outboard actuator fittings of the aileron servo controls, which could result in airframe vibration and consequent reduced structural integrity of the airplane.

DATES: We must receive comments on this proposed AD by March 30, 2005.

ADDRESSES: Use one of the following addresses to submit comments on this proposed AD.

• DOT Docket Web site: Go to http://dms.dot.gov and follow the instructions for sending your comments electronically.

• Government-wide rulemaking web site: Go to http://www.regulations.gov and follow the instructions for sending your comments electronically.

• Mail: Docket Management Facility, U.S. Department of Transportation, 400 Seventh Street SW, Nassif Building, room PL-401, Washington, DC 20590.

• By fax: (202) 493-2251.

• Hand Delivery: Room PL-401 on the plaza level of the Nassif Building, 400 Seventh Street SW, Washington, DC, between 9:00 a.m. and 5:00 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW, room PL-401, on the plaza level of the Nassif Building, Washington, DC. This docket number is FAA-2005-20452; the directorate identifier for this docket is 2004-NM-206-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2005-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2005-20452; Directorate Identifier 2004-NM-206-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9:00 a.m. and 5:00 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified the FAA that an unsafe condition may exist on certain Airbus Model A330, A340-200, and A340-300 series airplanes. The DGAC advises of several cases of bushing migration on the inboard and outboard actuator fittings of the aileron servo-controls; in one case the bushing had migrated completely out of the actuator fitting and the fitting was cracked. Investigation revealed that, in cases of bushing migration, the cracking is due to fatigue initiated by very high unsymmetrical loads. It has been determined that airplanes affected are those equipped with aileron servo-controls with ECP-8 or ECP-9 standard installed in service. These aileron servo-controls are equipped with new attachment bolts with a reduced diameter and small head. This condition, if not corrected, could result in rupture of the inboard and outboard actuator fittings of the aileron servo controls, which could result in airframe vibration and consequent reduced structural integrity of the airplane.

Relevant Service Information

Airbus has issued the service bulletins listed in the table below, which describe procedures for modifying the aileron servo-controls.

Service Bulletins for Modifying the Aileron Servo-Controls
Airbus model | Airbus service bulletin | Procedures described
A330 series | A330-57-3076, Revision 01, dated June 1, 2004 | Modifying the attachment bolt of the aileron servo-controls.
A340-200 and -300 series | A340-57-4084, Revision 01, dated June 1, 2004 | Modifying the attachment bolt of the aileron servo-controls.

Airbus has also issued Service Bulletins A330-57-3075 and A340-57-4083, both Revision 02, both including Appendix 01, both dated May 28, 2004. The service bulletins describe procedures for repetitive detailed visual inspections for discrepancies of the inboard and outboard actuator fitting of the aileron servo-controls, any related investigative/corrective actions; and eventual replacement of all the attachment bolts of the aileron servo-controls with large-head bolts. The related investigative/corrective actions are included in Figure 2, Sheets 1 through 5, of the Accomplishment Instructions of the applicable service bulletin. The investigative/corrective actions include, among other things:

• Accomplishing a detailed visual inspection for bushing migration of the rod end fittings of the inboard and outboard aileron servo-controls.

• If there is no bushing migration: Applying a paint mark on the fitting and bushing, or accomplishing follow-on detailed visual inspections to monitor bushing rotation or migration.

• If the bushing is missing (full migration): Accomplishing a special detailed inspection for cracking of the aileron fitting.

• If any discrepancies are found (bushing rotation or partial migration, missing bushing, cracks): Replacing with a new bushing or repairing the bushing.

• If the bushing migration is outside the limits specified in the service bulletins: Contacting Airbus for repair procedures.

The service bulletins also recommend submitting an inspection report to Airbus with the results of the detailed visual inspections.

Accomplishing the actions specified in the service information is intended to adequately address the unsafe condition.

The DGAC mandated the service information and issued French airworthiness directives F-2004-067 and F-2004-068, both dated May 26, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the DGAC's findings, evaluated all pertinent information, and determined that we need to issue an AD for products of this type design that are certificated for operation in the United States.

Therefore, we are proposing this AD, which would require accomplishing the actions specified in the service information described previously, except as discussed under “Differences Among Proposed AD, French Airworthiness Directives, and Service Information.”

Differences Among Proposed AD, French Airworthiness Directives, and Service Information

The French airworthiness directives and Airbus Service Bulletins A330-57-3075 and A340-57-4083 specify that operators may contact the manufacturer for disposition of certain repair conditions, but this proposed AD would require operators to repair those conditions per a method approved by either the FAA or the DGAC (or its delegated agent). In light of the type of repair that would be required to address the unsafe condition, and consistent with existing bilateral airworthiness agreements, we have determined that, for this proposed AD, a repair approved by either the FAA or the DGAC would be acceptable for compliance with this proposed AD.

Airbus Service Bulletins A330-57-3075 and A340-57-4083 recommend reporting inspection results to the airplane manufacturer; however, this proposed AD would not contain that requirement.

French airworthiness directive F-2004-068 requires that all Model A340 series airplanes be retrofitted with the ECP-9 standard aileron servo-controls before December 31, 2004. Since issuance of that airworthiness directive, the manufacturer has verified that all Model A340 series airplanes have been retrofitted with the ECP-9 standard, as recommended in Airbus Service Bulletin A340-27-4062. Therefore, this proposed AD differs from French airworthiness directive F-2004-068 by excluding the requirements to modify aileron servo controls with ECP-7 and ECP-8 standards for those airplanes. The manufacturer has also verified that all Model A330 series airplanes had the ECP-9 standard installed by either Airbus Modification 45512 or by retrofit, as recommended in Airbus Service Bulletin A330-27-3054. Therefore, this proposed AD excludes those requirements for Model A330 and A340 series airplanes that were equipped with ECP-7 and ECP-8 standard aileron servo-controls because those airplanes have had the ECP-9 standard installed. For these reasons, accomplishing the modifications of the aileron servo-controls to ECP-9 standard by accomplishing the concurrent service bulletins specified in Airbus Service Bulletins A330-57-3076, Revision 01, and A330-57-4084, Revision 01, is not required by this proposed AD.

The differences cited above have been coordinated with the DGAC.

Clarification of Inspection Terminology

The Airbus service bulletins specify to do a “detailed visual inspection” for discrepancies of the inboard and outboard actuator fitting of the aileron servo-controls. This proposed AD instead requires a “detailed inspection,” which is defined in Note 2 of this AD.

Costs of Compliance

This proposed AD would affect about 20 airplanes of U.S. registry.

The proposed inspection would take about 16 work hours per airplane (2 hours per fitting), at an average labor rate of $65 per work hour. Based on these figures, the estimated cost of the proposed inspection is $20,800, or $1,040 per airplane, per inspection cycle.

The proposed replacement would take about 12 work hours per airplane, at an average labor rate of $65 per work hour. Required parts would be free of charge. Based on these figures, the estimated cost of the proposed replacement is $15,600, or $780 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD will not have federalism implications under Executive Order 13132. This proposed AD will not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20452; Directorate Identifier 2004-NM-206-AD.

Comments Due Date

(a) The Federal Aviation Administration must receive comments on this AD action by March 30, 2005.

Affected ADs

(b) None.

Applicability

(c) This AD applies to Airbus Model A330 and A340-200 and -300 series airplanes, certificated in any category, except those on which Airbus Modification 50660 has been accomplished.

Unsafe Condition

(d) This AD was prompted by several cases of bushing migration on the inboard and outboard actuator fittings of the aileron servo-controls; in one case the bushing had migrated completely out of the actuator fitting and the fitting was cracked. We are issuing this AD to prevent rupture of the inboard and outboard actuator fittings of the aileron servo controls, which could result in airframe vibration and consequent reduced structural integrity of the airplane.

Compliance

(e) You are responsible for having the actions required by this AD performed within the compliance times specified, unless the actions have already been done.

Service Bulletin References

(f) The term “service bulletin,” as used in this AD, means the Accomplishment Instructions of the applicable service bulletin identified in Table 1 of this AD.

Table 1.—Airbus Service Bulletins
For airbus model— | Use airbus service bulletin— | And, for actions done before the effective date of this AD, credit is given for prior accomplishment of revision—
A330 series airplanes | A330-27-3075, Revision 02, dated May 28, 2004 | None.
A330 series airplanes | A330-57-3076, Revision 01, dated June 1, 2004 | Original dated March 14, 2003.
A340-200 and -300 series airplanes | A340-27-4083, Revision 02, dated May 28, 2004 | None.
A340-200 and -300 series airplanes | A340-57-4084,Revision 01, dated June 1, 2004 | Original, dated March 14, 2003.

(g) Airbus Service Bulletins A330-57-3075 and A340-57-4083 recommend reporting inspection results to the airplane manufacturer; however, this AD does not contain that requirement.

Repetitive Inspections/Corrective Actions

(h) Within 600 flight hours after the effective date of this AD, accomplish a detailed inspection for discrepancies of the inboard and outboard actuator fitting of the aileron servo-controls, in accordance with the service bulletin. Accomplish any related corrective actions before further flight in accordance with the service bulletin, except as required by paragraph (i) of this AD. Repeat the inspection thereafter at intervals not to exceed 600 flight hours.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(i) If any discrepancy is found during any inspection required by paragraph (h) of this AD, and the service bulletin specifies to contact Airbus for an appropriate action. Before further flight, repair in accordance with a method approved by the Manager, International Branch, ANM-116, Transport Airplane Directorate, FAA; or the DGAC (or its delegated agent). Where differences in the compliance times or corrective actions exist between the service bulletin and this AD, the AD prevails.

Replacement

(j) Replace all the small-head attachment bolts of the aileron servo-controls with large-head attachment bolts at the earlier of the times specified in paragraphs (j)(1) and (j)(2) of this AD, in accordance with the service bulletin.

(1) Before further flight if no discrepancies are found after accomplishing three consecutive inspections, as required by paragraph (h) of this AD.

(2) Within 18 months after the effective date of this AD.

Alternative Methods of Compliance (AMOCs)

(k) The Manager, International Branch, ANM-116, has the authority to approve AMOCs for this AD, if requested in accordance with the procedures found in 14 CFR 39.19.

Related Information

(l) French airworthiness directives F-2004-067 and F-2004-068, both dated May 26, 2004, also address the subject of this AD.

Issued in Renton, Washington, on February 16, 2005.
Ali Bahrami,
Manager, Transport Airplane Directorate, Aircraft Certification Service.

[FR Doc. 05-3783 Filed 2-25-05; 8:45 am]

BILLING CODE 4910-13-P